DEPARTMENT OF ENERGY

Federal Energy Regulatory Commission

Combined Notice of Filings

Take notice that the Commission has received the following Natural Gas Pipeline Rate and Refund Report filings:

Filings in Existing Proceedings

Docket Numbers: RP21-1171-001.

Applicants: Transcontinental Gas Pipe Line Company, LLC.

Description: Compliance filing: Revised 2021 Annual Cash Out Filing to be effective N/A.

Filed Date: 9/30/22.

Accession Number: 20220930-5174.

Comment Date: 5 p.m. ET 10/12/22.

Docket Numbers: RP23-1-000.

Applicants: WBI Energy Transmission, Inc.

Description: Penalty Revenue Crediting Report of WBI Energy Transmission, Inc.

Filed Date: 10/3/22.

Accession Number: 20221003-5093.

Comment Date: 5 p.m. ET 10/17/22.

Docket Numbers: RP23-2-000.

Applicants: Rover Pipeline LLC.

Description: § 4(d) Rate Filing: Summary of Negotiated Rate Capacity Release Agreements on 10-3-22 to be effective 10/1/2022.

Filed Date: 10/3/22.

Accession Number: 20221003-5127.

Comment Date: 5 p.m. ET 10/17/22.

Docket Numbers: RP23-3-000.

Applicants: NEXUS Gas Transmission, LLC.

Description: § 4(d) Rate Filing: Negotiated Rates—Various Releases 10-1-2022 to be effective 10/1/2022.

Filed Date: 10/3/22.

Accession Number: 20221003-5129.

Comment Date: 5 p.m. ET 10/17/22.

Any person desiring to protest in any the above proceedings must file in accordance with Rule 211 of the Commission's Regulations (18 CFR 385.211) on or before 5:00 p.m. Eastern time on the specified comment date.

Filings Instituting Proceedings

Docket Numbers: RP22-1284-000.

Applicants: Texas Gas Transmission, LLC.

Description: § 4(d) Rate Filing: 2022 Fuel Tracker Filing to be effective 11/1/2022.

Filed Date: 9/30/22.

Accession Number: 20220930-5155.

Comment Date: 5 p.m. ET 10/12/22.

Docket Numbers: RP22-1285-000.

Applicants: Texas Gas Transmission, LLC.

Description: § 4(d) Rate Filing: Remove Expired Agreements effective October 1, 2022 to be effective 10/1/2022.

Filed Date: 9/30/22.

Accession Number: 20220930-5161.

Comment Date: 5 p.m. ET 10/12/22.

Docket Numbers: RP22-1286-000.

Applicants: Gulf South Pipeline Company, LLC.

Description: § 4(d) Rate Filing: Cap Rel Neg Rate Agmts (Aethon 52454, 53154 to Scona 55634, 55635) to be effective 10/1/2022.

Filed Date: 9/30/22.

Accession Number: 20220930-5162.

Comment Date: 5 p.m. ET 10/12/22.

Docket Numbers: RP22-1287-000.

Applicants: Transcontinental Gas Pipe Line Company, LLC.

Description: § 4(d) Rate Filing: Negotiated Rates—Cherokee AGL—Replacement Shippers—Oct 2022 to be effective 10/1/2022.

Filed Date: 9/30/22.

Accession Number: 20220930-5178.

Comment Date: 5 p.m. ET 10/12/22.

Docket Numbers: RP22-1288-000.

Applicants: El Paso Natural Gas Company, L.L.C.

Description: § 4(d) Rate Filing: Negotiated Rate Agreement Update (SoCal Nov-Mar 2022) to be effective 11/1/2022.

Filed Date: 9/30/22.

Accession Number: 20220930-5195.

Comment Date: 5 p.m. ET 10/12/22.

Docket Numbers: RP22-1289-000.

Applicants: Northern Natural Gas Company.

Description: § 4(d) Rate Filing: 20220930 Negotiated Rate to be effective 10/1/2022.

Filed Date: 9/30/22.

Accession Number: 20220930-5200.

Comment Date: 5 p.m. ET 10/12/22.

Docket Numbers: RP22-1290-000.

Applicants: Natural Gas Pipeline Company of America LLC.

Description: § 4(d) Rate Filing: Negotiated Rate Agreement Filing—Mercuria Energy America to be effective 10/1/2022.

Filed Date: 9/30/22.

Accession Number: 20220930-5218.

Comment Date: 5 p.m. ET 10/12/22.

Docket Numbers: RP22-1291-000.

Applicants: Natural Gas Pipeline Company of America LLC.

Description: § 4(d) Rate Filing: Negotiated Rate Agreement Filing—Sabine Pass Liquefaction to be effective 10/1/2022.

Filed Date: 9/30/22.

Accession Number: 20220930-5219.

Comment Date: 5 p.m. ET 10/12/22.

Docket Numbers: RP22-1292-000.

Applicants: Natural Gas Pipeline Company of America LLC.

Description: § 4(d) Rate Filing: Negotiated Rate Agreement Filing-Spotlight Energy, LLC to be effective 10/1/2022.

Filed Date: 9/30/22.

Accession Number: 20220930-5223.

Comment Date: 5 p.m. ET 10/12/22.

Docket Numbers: RP22-1293-000.

Applicants: BBT AlaTenn, LLC.

Description: § 4(d) Rate Filing: BBT Ala-Tenn NRA Filing to be effective 11/1/2022.

Filed Date: 9/30/22.

Accession Number: 20220930-5269.

Comment Date: 5 p.m. ET 10/12/22.

Docket Numbers: RP22-1294-000.

Applicants: Roaring Fork Interstate Gas Transmission, LLC.

Description: Annual FL&U Reimbursement Percentage Filing for 2022 of Roaring Fork Interstate Gas Transmission, LLC.

Filed Date: 9/30/22.

Accession Number: 20220930-5278.

Comment Date: 5 p.m. ET 10/12/22.

Docket Numbers: RP22-1295-000.

Applicants: Midwestern Gas Transmission Company.

Description: § 4(d) Rate Filing: Permenant Release Partial Capacity to Tenaska Marketing FA1542 to be effective 11/1/2022.

Filed Date: 9/30/22.

Accession Number: 20220930-5293.

Comment Date: 5 p.m. ET 10/12/22.

Docket Numbers: RP22-1296-000.

Applicants: Columbia Gas Transmission, LLC.

Description: § 4(d) Rate Filing: Non-Conforming—Columbia Gas Virginia—50473-11 to be effective 11/1/2022.

Filed Date: 9/30/22.

Accession Number: 20220930-5309.

Comment Date: 5 p.m. ET 10/12/22.

Docket Numbers: RP22-1297-000.

Applicants: Leaf River Energy Center LLC.

Description: § 4(d) Rate Filing: Leaf River Low Pressure Tender filing (9-30-2022) to be effective 11/1/2022.

Filed Date: 9/30/22.

Accession Number: 20220930-5373.

Comment Date: 5 p.m. ET 10/12/22.

Docket Numbers: RP22-1298-000.

Applicants: Maritimes & Northeast Pipeline, L.L.C.

Description: § 4(d) Rate Filing: MNUS FRQ 2022 Filing to be effective 11/1/2022.

Filed Date: 9/30/22.

Accession Number: 20220930-5397.

Comment Date: 5 p.m. ET 10/12/22.

Docket Numbers: RP22-1299-000.

Applicants: ANR Pipeline Company.

Description: § 4(d) Rate Filing: Dynegy—137273—Non-Conforming Agreement to be effective 11/1/2022.

Filed Date: 9/30/22.

Accession Number: 20220930-5399.

Comment Date: 5 p.m. ET 10/12/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 3, 2022.
Debbie-Anne A. Reese,
Deputy Secretary.

[FR Doc. 2022-21876 Filed 10-6-22; 8:45 am]

BILLING CODE 6717-01-P